DEPARTMENT OF COMMERCE

National Oceanic and Atmospheric Administration

RIN 0648-XC398

Magnuson-Stevens Act Provisions; Fisheries of the Northeastern United States; Northeast Multispecies Fishery; Approved Monitoring Service Providers

AGENCY: National Marine Fisheries Service (NMFS), National Oceanic and Atmospheric Administration (NOAA), Commerce.

ACTION: Notice, approved monitoring service providers.

SUMMARY: NMFS has approved four companies to provide dockside and/or at-sea monitoring services to Northeast (NE) multispecies vessels in fishing year (FY) 2013. Regulations implementing Amendment 16 to the NE Multispecies Fishery Management Plan (Amendment 16) require third-party monitoring service providers to apply to, and be approved by, NMFS in a manner consistent with the Administrative Procedure Act in order to be eligible to provide dockside and/or at-sea monitoring services to sectors.

ADDRESSES: Copies of the list of NMFS-approved sector monitoring service providers are available at http://www.nero.noaa.gov/sfd/sfdmultisector.html or by sending a written request to:

• Fax: (978) 281-9135, Attn: Mark Grant.

• Mail: 55 Great Republic Drive, Gloucester, MA 01930, Attn: Mark Grant.

For service provider contact information, see the SUPPLEMENTARY INFORMATION section of this notice.

FOR FURTHER INFORMATION CONTACT: Mark Grant, Sector Policy Analyst, (978) 281-9145, fax (978) 281-9135, email Mark.Grant@NOAA.gov.

SUPPLEMENTARY INFORMATION: Amendment 16 expanded the sector management program, including adding a requirement to ensure accurate monitoring of both sector at-sea catch and dockside landings, and common pool dockside landings (75 FR 18262; April 9, 2010). Framework Adjustment 45 to the FMP (Framework 45, 76 FR 23042, April 25, 2011) revised several dockside monitoring requirements.

Standards for Approving Sectors

Regulations at 50 CFR 648.87(b)(4) describe the criteria for NMFS approval of interested at-sea and dockside service providers. Once approved, providers must document having met performance requirements in order to maintain eligibility (§ 648.87(b)(4)(ii)). NMFS can disapprove any previously approved service provider during the FY if the service provider in question ceases to meet the performance standards. NMFS must notify service providers of disapproval in writing.

NMFS first approved service providers for FY 2010, based upon the completeness of their application addressing the regulatory requirements (§ 648.87(b)(4)(i)), and a determination of the applicant's ability to perform the duties and responsibilities of a monitoring service provider. In FY 2011, NMFS approved service providers based on completeness of applications, determination of ability, and performance during FY 2010. NMFS did not approve any providers for FY 2012 because there was no dockside monitoring requirement and at-sea monitoring was provided solely by NMFS.

NMFS is approving service providers for FY 2013 (beginning May 1, 2013) based on: (1) Completeness of applications; (2) determination of the applicant's ability to perform the duties and responsibilities of a sector monitoring service provider; and (3) performance as NMFS-funded providers in FY 2012.

NE multispecies sectors are required to design and implement independent, third-party at-sea monitoring in FY 2013, and are responsible for the costs of these monitoring requirements, unless otherwise instructed by NMFS. The regulations currently require the NE multispecies fishery to hire and pay for dockside monitoring in FY 2013. In December 2012, the New England Fishery Management Council approved measures to modify the at-sea monitoring program and eliminate the requirement for dockside monitoring for both sector and common pool vessels. As this measure has not yet been approved, and a sector may elect to retain dockside monitoring through its operations plan, NMFS is also approving dockside monitoring service providers.

Approved Monitoring Service Providers

NMFS received complete applications from three service providers intending to provide dockside and/or at-sea monitoring services, and one service provider intending to provide only at-sea monitoring services. All four applicants were previously approved and provided dockside and/or at-sea monitoring services to sectors. The Regional Administrator has approved the following service providers as eligible to provide dockside monitoring and/or at-sea monitoring services in FY 2013:

Table 1—Approved FY 2013 Providers
Provider name | At-Sea monitoring | Dockside monitoring | Address | Phone | Fax | Web site
A.I.S., Inc | X | X | 89 North Water Street, New Bedford, MA 02747 | (508) 990-9054 | (508) 990-9055 | www.aisobservers.com
MRAG Americas | X | X | 65 Eastern Ave., Unit B2C, Essex, MA 01929 | (978) 768-3880 | (978) 768-3878 | www.mragamericas.com
Atlantic Catch Data Ltd. | X | X | 99 Wyse Road, Suite 815, Dartmouth, Nova Scotia, CANADA B3A 4S5 | (902) 422-4745 | (902) 422-9780 | www.atlanticcatchdata.ca
East West Technical Services, LLC |  | X | 34 Batterson Drive, New Britain, CT 06053 | (860) 223-5165 | (860) 223-6005 | www.ewts.com

Authority: 16 U.S.C. 1801 et seq.

Dated: February 8, 2013.
Kara Meckley,
Acting Deputy Director, Office of Sustainable Fisheries, National Marine Fisheries Service.

[FR Doc. 2013-03371 Filed 2-12-13; 8:45 am]

BILLING CODE 3510-22-P